DEPARTMENT OF THE INTERIOR

Bureau of Land Management

[212.LLIDT02000.L12200000.JX0000.241A0.4500154358]

Notice of Availability of the Cedar Fields Plan Amendment Draft Environmental Impact Statement for the Monument Resource Management Plan, Idaho

AGENCY: Bureau of Land Management, Interior.

ACTION: Notice of availability.

SUMMARY: In accordance with the National Environmental Policy Act of 1969, as amended (NEPA), and the Federal Land Policy and Management Act of 1976, as amended (FLPMA), the Bureau of Land Management (BLM) has prepared the Draft Monument Resource Management Plan (RMP) Amendment and Draft Environmental Impact Statement (EIS) for the Cedar Fields Project Area and by this notice is announcing the opening of the public comment period.

DATES: To ensure that comments will be considered, the BLM must receive written comments on the Draft RMP Amendment/Draft EIS within 90 days following the date the Environmental Protection Agency publishes its Notice of Availability in the Federal Register. The BLM will announce future meetings or hearings at least 15 days in advance through public notices, media releases, and/or mailings.

ADDRESSES: You may submit comments related to the Draft RMP Amendment/Draft EIS by any of the following methods:

• Website: https://eplanning.blm.gov/eplanning-ui/project/36660/510.

• Email: blm_id_monumentcassiarmpamend@blm.gov.

• Fax: 208-677-6699.

• Mail: BLM Burley Field Office, 15 East 200 South, Burley, ID 83318.

Copies of the Draft RMP Amendment/Draft EIS are available in the Burley Field Office at the above address.

FOR FURTHER INFORMATION CONTACT: Lisa Cresswell, Assistant Field Manager, Shoshone Field Office, telephone 208-732-7270; address BLM Burley Field Office, 15 East 200 South, Burley, ID 83318; email blm_id_monumentcassiarmpamend@blm.gov. Persons who use a telecommunications device for the deaf (TDD) may call the Federal Relay Service (FRS) at 1-800-877-8339 to contact Ms. Cresswell. The FIRS is available 24 hours a day, 7 days a week, to leave a message or question for Ms. Cresswell. You will receive a reply during normal business hours.

SUPPLEMENTARY INFORMATION: The Draft RMP Amendment/Draft EIS for the Cedar Fields is now available. The BLM prepared this document in consultation with cooperating agencies and in accordance with NEPA, FLPMA, implementing regulations, the BLM's Land Use Planning Handbook (H-1601-1) and National Environmental Policy Handbook (H-1790-1), and other applicable law and policy.

The Draft RMP Amendment/Draft EIS analyzes management options for the BLM-managed portions of Cedar Fields that were not evaluated in the EIS for the 1985 Monument Resource Management Plan. Its purpose is to consider a range of reasonable alternatives for managing recreation use while providing cultural resource protection on BLM-managed lands and adjacent U.S. Bureau of Reclamation (USBR)-managed lands in Cedar Fields. This will be done in a manner that maintains the values identified in the 1985 Monument RMP and the 1999 American Falls Archaeological District (Archaeological District) listing on the National Register of Historic Places. The five alternatives range from reducing the area available for rock climbing and off-highway vehicle use, to limiting the type of rock climbing allowed in the Archaeological District to traditional climbing only.

The BLM initiated the land use planning process on August 23, 2011, through a Notice of Intent published in the Federal Register, notifying the public of a formal scoping period and soliciting public participation in the planning process. The BLM held three scoping meetings in September and October 2011 in Pocatello, Burley, and American Falls, Idaho. Based on public input gathered during initial scoping, and from stakeholders throughout the process, the BLM formulated the five alternatives considered and analyzed in the Draft RMP Amendment/Draft EIS. Because nominations for the designation of Areas of Critical Environmental Concern were previously analyzed for the RMP, the BLM did not solicit new nominations during scoping for the amendment.

Following the close of the public review and comment period, the Draft RMP Amendment/Draft EIS will be revised in preparation for its release as the Proposed RMP Amendment and Final EIS. The BLM will respond to substantive comments by making appropriate revisions to the document or explain why a comment did not warrant a change.

Before including your address, phone number, email address, or other personal identifying information in your comment, you should be aware that your entire comment—including your personal identifying information—may be made publicly available at any time. While you can ask us in your comment to withhold your personal identifying information from public review, we cannot guarantee that we will be able to do so.

Authority: 40 CFR 1506.6, 40 CFR 1506.10, 43 CFR 1610.2.

John F. Ruhs,
BLM Idaho State Director.

[FR Doc. 2021-16628 Filed 8-5-21; 8:45 am]

BILLING CODE 4310-GG-P